SOCIAL SECURITY ADMINISTRATION

[Docket No: SSA-2016-0025]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2016-0025].

I. The information collections below are pending at SSA. SSA will submit them to OMB within 60 days from the date of this notice. To be sure we consider your comments, we must receive them no later than August 5, 2016. Individuals can obtain copies of the collection instruments by writing to the above email address.

1. Waiver of Your Right to Personal Appearance before an Administrative Law Judge—20 CFR 404.948(b)(l)(i) and 416.1448(b)(l)(i)-0960-0284. Applicants for Social Security, Old Age, Survivors and Disability Insurance (OASDI) benefits and Supplemental Security Income (SSI) payments have the statutory right to appear in person, or through a representative, and present evidence about their claims at a hearing before an administrative law judge (ALJ). If claimants wish to waive this right to appear before an ALJ, they must do so in writing. Form HA-4608 serves as a written waiver for the claimant's right to a personal appearance before an ALJ. The ALJ uses the information we collect on Form HA-4608 to continue processing the case, and makes the completed form a part of the documentary evidence of record by placing it in the official record of the proceedings as an exhibit. Respondents are applicants or claimants for OASDI and SSI, or their representatives, who request to waive their right to appear in person before an ALJ.

Type of Request: Revision of an approved-OMB information collection.

Modality of completion | Number of respondents | Frequency of response | Average burden per response (minutes) | Estimated total annual burden (hours)
HA-4608 | 12,000 | 1 | 2 | 400

2. Letter to Custodian of Birth Records/Letter to Custodian of School Records—20 CFR 404.704, 404.716, 416.802, and 422.107—0960-0693. When individuals need help in obtaining evidence of their age in connection with Social Security number (SSN) card applications and claims for benefits, SSA can prepare the SSA-L106, Letter to Custodian of School Records, or SSA-L706, Letter to Custodian of Birth Records. SSA uses the SSA-L706 to determine the existence of primary evidence of age of SSN applicants. SSA uses both letters to verify with the issuing entity, when necessary, the authenticity of the record submitted by the SSN applicant or claimant. The respondents are schools, State and local bureaus of vital statistics, and religious entities.

Type of Request: Revision of an OMB-approved information collection.

SSA-L106
Respondent type | Number of respondents | Frequency of response | Average burden per response (minutes) | Estimated total annual burden (hours)
Private Sector | 1,800 | 1 | 10 | 300
State/Local/Tribal Government | 1,800 | 1 | 10 | 300
Total | 3,600 |  |  | 600

SSA-L706
Respondent type | Number of respondents | Frequency of response | Average burden per response (minutes) | Estimated total annual burden (hours)
Private Sector | 1,800 | 1 | 10 | 300
State/Local/Tribal Government | 1,800 | 1 | 10 | 300
Total | 3,600 |  |  | 600
Grand Total | 7,200 |  |  | 1,200

II. SSA submitted the information collection below to OMB for clearance. Your comments regarding the information collection would be most useful if OMB and SSA receive them 30 days from the date of this publication. To be sure we consider your comments, we must receive them no later than July 6, 2016. Individuals can obtain copies of the OMB clearance package by writing to OR.Reports.Clearance@ssa.gov.

Waiver of Supplemental Security Income Payment Continuation—20 CFR 416.1400-416.1422—0960-0783. SSI recipients who wish to discontinue their SSI payments while awaiting a determination on their appeal complete Form SSA-263-U2, Waiver of Supplemental Security Income Payment Continuation, to inform SSA of this decision. SSA collects the information to determine whether the SSI recipient meets the provisions of The Social Security Act regarding waiver of payment continuation and as proof respondents no longer want their payments to continue. Respondents are recipients of SSI payments who wish to discontinue receipt of payment while awaiting a determination on their appeal

Type of Request: Revision of an OMB-approved information collection.

Modality of completion | Number of respondents | Frequency of response | Average burden per response (minutes) | Estimated total annual burden (hours)
SSA-263-U2 | 3,000 | 1 | 5 | 250

Dated: May 31, 2016.
Naomi R. Sipple,
Reports Clearance Officer, Social Security Administration.

[FR Doc. 2016-13202 Filed 6-3-16; 8:45 am]

BILLING CODE 4191-02-P